DEPARTMENT OF TRANSPORTATION

Federal Aviation Administration

14 CFR Part 71

[Docket FAA 2003-16567; Airspace Docket 03-ANM-14]

Revision of Class E Airspace; Sunriver, OR

AGENCY: Federal Aviation Administration (FAA), DOT.

ACTION: Final rule.

SUMMARY: This final rule will revise Class E airspace at Sunriver, OR. A new Area Navigation (RNAV) Global Position System (GPS) Standard Instrument Approach Procedure (SIAP) at Sunriver airport, Sunriver, OR, makes it necessary to increase the Class E airspace. This additional controlled airspace extending upward from 700 feet or more above the surface of the earth is necessary for the containment and safety of Instrument Flight Rules (IFR) aircraft transitioning to/from the en route environment and executing this SIAP procedure.

EFFECTIVE DATE: 0901 UTC, January 20, 2005.

FOR FURTHER INFORMATION CONTACT: Ed Haeseker, Federal Aviation Administration, Air Traffic Organization, 1601 Lind Avenue SW., Renton, WA, 98055-4056; telephone (425) 227-2527.

SUPPLEMENTARY INFORMATION:

History

On October 21, 2003, the FAA proposed to amend Title 14 Code of Federal Regulations part 71 (CFR part 71) to modify Class E airspace at Sunriver, OR, (69 FR 19317). A new RNAV GPS SIAP at Sunriver Airport, Sunriver, OR, makes it necessary to increase the Class E airspace. This additional controlled airspace is necessary for the containment and safety of IFR aircraft transitioning to/from the en route environment and executing this SIAP procedure.

Interested parties were invited to participate in this rule making proceeding by submitting written comments on the proposal to the FAA. No comments were received. Class E airspace designations are published in paragraph 6005 of FAA Order 7400.9M dated August 30, 2004, and effective September 16, 2004, which is incorporated by reference in 14 CFR part 71.1. The Class E airspace designations listed in this document will be published subsequently in that Order.

The Rule: This amendment to 14 CFR part 71 revises Class E airspace at Sunriver Airport, Sunriver, OR. A new RNAV GPS SIAP at Sunriver Airport makes it necessary to increase the Class E airspace. This additional controlled airspace extending upward from 700 feet or more above the surface of the earth is for the containment and safety of IFR aircraft transitioning to/from the en route environment and executing this SIAP procedure.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air)

Adoption of the Amendment

In consideration of the foregoing, the Federal Aviation Administration amends 14 CFR part 71 as follows:

PART 71—DESIGNATION OF CLASS A, CLASS B, CLASS C, CLASS D, AND CLASS E AIRSPACE AREAS; ROUTES; AND REPORTING POINTS.

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR part 71.1 of the Federal Aviation Administration Order 7400.9M, Airspace Designations and Reporting Points, dated August 30, 2004, and effective September 16, 2004, is amended as follows:

Paragraph 6005 Class E Airspace area extending upward from 700 feet or more above the surface of the earth.

* * * * *

ANM OR E5 Sunriver, OR (Revised)

Sunriver Airport, Sunriver, OR

(Lat. 43°52′35″ N., long. 121°27′11″ W.)

Deschutes VORTAC

(Lat. 43°15′10″ N., long. 121°18′13″ W.)

That airspace extending upward from 700 feet above the surface of the earth within a 6.1 mile radius of the Sunriver Airport and within 3.5 miles each side of the Deschutes VORTAC 196° radial extending from the 6.1 mile radius to 14 miles north of the airport excluding that airspace within Federal Airways.

* * * * *

Issued in Seattle, Washington, on November 8, 2004.
Raul C. Treviño,
Area Director, Western En Route and Oceanic Operations.

[FR Doc. 04-25884 Filed 11-22-04; 8:45 am]

BILLING CODE 4910-13-M